DEPARTMENT OF COMMERCE

International Trade Administration

A-580-809

Certain Circular Welded Non-Alloy Steel Pipe from the Republic of Korea; Final Results of Changed Circumstances Review

AGENCY: Import Administration, International Trade Administration, Department of Commerce.

ACTION: Notice of Final Results of Changed Circumstances Antidumping Duty Administrative Review.

SUMMARY: On October 1, 2002, the Department of Commerce published a notice of preliminary results of its changed circumstances review on certain circular welded non-alloy steel pipe from Korea (see Certain Circular Welded Non-Alloy Steel Pipe from the Republic of Korea; Preliminary Results of Changed Circumstances Review, 67 FR 61578). We have now completed the review and determine Husteel Company, Ltd. to be the successor-in-interest to Shinho Steel Company, Ltd.

EFFECTIVE DATE: November 19, 2002.

FOR FURTHER INFORMATION CONTACT: Scott Holland, Import Administration, International Trade Administration, U.S. Department of Commerce, 14th Street and Constitution Avenue, NW, Washington, DC 20230; telephone (202) 482-1279.

SUPPLEMENTARY INFORMATION:

Applicable Statute

Unless otherwise indicated, all citations to the Tariff Act of 1930, as amended (the “Act”), are references to the provisions effective January 1, 1995, the effective date of the amendments made to the Act by the Uruguay Round Agreements Act. In addition, unless otherwise indicated, all citations to the Department of Commerce's (“the Department”) regulations are to 19 CFR Part 351 (2002).

Background:

On October 1, 2002, the Department published its preliminary results in the Federal Register (see Certain Circular Welded Non-Alloy Steel Pipe from the Republic of Korea; Preliminary Results of Changed Circumstances Review, 67 FR 61578) (“Preliminary Results”), preliminarily finding Husteel Company, Ltd. (“Husteel”) to be the successor-in-interest to Shinho Steel Company, Ltd. (“Shinho”). We invited interested parties to comment on these preliminary findings. No comments were received from interested parties.

Scope of the Review

The merchandise subject to this review is circular welded non-alloy steel pipe and tube, of circular cross-section, not more than 406.4mm (16 inches) in outside diameter, regardless of wall thickness, surface finish (black, galvanized, or painted), or end finish (plain end, beveled end, threaded, or threaded and coupled). These pipes and tubes are generally known as standard pipes and tubes and are intended for the low-pressure conveyance of water, steam, natural gas, air, and other liquids and gases in plumbing and heating systems, air-conditioning units, automatic sprinkler systems, and other related uses. Standard pipe may also be used for light load-bearing applications, such as for fence tubing, and as structural pipe tubing used for framing and as support members for reconstruction or load-bearing purposes in the construction, shipbuilding, trucking, farm equipment, and other related industries. Unfinished conduit pipe is also included in this order.

All carbon-steel pipes and tubes within the physical description outlined above are included within the scope of this review except line pipe, oil country tubular goods, boiler tubing, mechanical tubing, pipe and tube hollows for redraws, finished scaffolding, and finished conduit. In accordance with the Department's Final Negative Determination of Scope Inquiry on Certain Circular Welded Non-Alloy Steel Pipe and Tube from Brazil, the Republic of Korea, Mexico, and Venezuela, 61 FR 11608 (March 21, 1996), pipe certified to the API 5L line-pipe specification and pipe certified to both the API 5L line-pipe specifications and the less-stringent ASTM A-53 standard-pipe specifications, which falls within the physical parameters as outlined above, and entered as line pipe of a kind used for oil and gas pipelines is outside of the scope of the antidumping duty order.

Imports of these products are currently classifiable under the following Harmonized Tariff Schedule of the United States (“HTSUS”) subheadings: 7306.30.10.00, 7306.30.50.25, 7306.30.50.32, 7306.30.50.40, 7306.30.50.55, 7306.30.50.85, and 7306.30.50.90. Although the HTSUS subheadings are provided for convenience and Customs Service purposes, our written description of the scope of this proceeding is dispositive.

Successorship and Final Results of Review

Because we received no comments on the preliminary results, for the reasons stated in the Preliminary Results and based on the facts on the record, we find Husteel to be the successor-in-interest to Shinho for antidumping duty cash deposit purposes.

Therefore, Husteel will be assigned the same cash deposit rate with respect to the subject merchandise as the predecessor company, Shinho (i.e., 2.99 percent) (see Circular Welded Non-Alloy Steel Pipe from the Republic of Korea; Amended Final Results of Antidumping Administrative Review, 66 FR 28422 (May 23, 2001)). This cash deposit requirement will be effective upon publication of this notice of final results of changed circumstances review for all shipments of the subject merchandise entered, or withdrawn from warehouse, for consumption on or after the publication date. This cash deposit rate shall remain in effect until publication of the final results of the next administrative review involving Husteel.

This determination is issued and published in accordance with sections 751(b)(1) and 777(i)(1) of the Act and 19 CFR 351.221(c)(3).

Dated: November 12, 2002.
Richard Moreland,
Acting Assistant Secretary for Import Administration.

[FR Doc. 02-29348 Filed 11-18-02; 8:45 am]

BILLING CODE 3510-DS-S